FEDERAL COMMUNICATIONS COMMISSION

Notice of Public Information Collection(s) Being Reviewed by the Federal Communications Commission for Extension Under Delegated Authority, Comments Requested

June 12, 2001.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before August 24, 2001. If you anticipate that you will be submitting comments, but find it difficult to do so within the period of time allowed by this notice, you should advise the contact listed below as soon as possible.

ADDRESSES: Direct all comments to Les Smith, Federal Communications Commissions, Room 1 A-804, 445 Twelfth Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Approval No.: 3060-0657.

Title: Section 21.956 Filing of long-form applications or statements of intention.

Form No.: n/a.

Type of Review: Extension of currently approved collection.

Respondents: Businesses or other for-profit.

Number of Respondents: 2.

Estimated Hours Per Response: 4.0 hours (1.0 hour respondent, 1 hour attorney, 2 hours consulting engineer).

Frequency of Response: On occasion.

Cost to Respondents: $1,000.

Estimated Total Annual Burden: 2 hours.

Needs and Uses: Where the Basic Trading Area (BTA) is so heavily encumbered that the winning bidder is unable to file a long-form application for a station within the BTA while protecting incumbents from harmful interference, the winning bidder must file a statement of intention of use of the BTA in accordance with Section 21.956. This statement of intention must identify all incumbents and describe in detail its plan for obtaining the authorized/proposed MDS stations within the BTA. This statement must also include the exhibits detailed in 21.956(b). The long-form application (FCC 304) has separate OMB approval under control number 3060-0654. The data is used by FCC staff to determine whether to grant a BTA authorization.

Federal Communications Commission.
Magalie Roman Salas,
Secretary.

[FR Doc. 01-15905 Filed 6-22-01; 8:45 am]

BILLING CODE 6712-01-P